NUCLEAR REGULATORY COMMISSION

10 CFR Part 72

RIN 3150-AI03

List of Approved Fuel Storage Casks: Standardized NUHOMS® System, Revision 9, Confirmation of Effective Date

AGENCY: Nuclear Regulatory Commission

ACTION: Direct final rule: Confirmation of effective date.

SUMMARY: The Nuclear Regulatory Commission (NRC) is confirming the effective date of April 17, 2007, for the direct final rule that was published in the Federal Register on February 1, 2007 (72 FR 4615). This direct final rule amended the NRC's regulations to revise the Transnuclear, Inc., Standardized NUHOMS® System listing to include Amendment No. 9 to Certificate of Compliance (CoC) No. 1004.

DATES: Effective Date: The effective date of April 17, 2007, is confirmed for this direct final rule.

ADDRESSES: Documents related to this rulemaking, including comments received, may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Federal and State Materials and Environmental Management Programs, U.S. Nuclear Regulatory Commission, Washington, DC 20555, telephone (301) 415-6219, e-mail jmm2@nrc.gov.

SUPPLEMENTARY INFORMATION: On February 1, 2007 (72 FR 4615), the NRC published a direct final rule amending its regulations in 10 CFR part 72 to revise the Transnuclear, Inc., Standardized NUHOMS® System listing within the “List of Approved Spent Fuel Storage Casks” to include Amendment No. 9 to CoC No. 1004. This amendment revises Technical Specifications 1.2.1 and 1.2.14 to add the Framatome-ANP, Version 9x9-2 fuel assemblies as approved contents for storage in the NUHOMS-61BT dry shielded canister. In the direct final rule, NRC stated that if no significant adverse comments were received, the direct final rule would become final on April 17, 2007. The NRC did not receive any comments that warranted withdrawal of the direct final rule. Therefore, this rule will become effective as scheduled.

Dated at Rockville, Maryland, this 11th day of April, 2007.
For the Nuclear Regulatory Commission.
Michael T. Lesar,
Chief, Rulemaking, Directives and Editing Branch, Division of Administrative Services, Office of Administration.

[FR Doc. E7-7262 Filed 4-16-07; 8:45 am]

BILLING CODE 7590-01-P